SURFACE TRANSPORTATION BOARD

[Docket No. Docket No. FD 36652]

Green Eagle Railroad—Construction and Operation Exemption—Line of Railroad in Maverick County, Texas

AGENCY: Surface Transportation Board.

ACTION: Notice of intent (NOI) to prepare an environmental impact statement (EIS); notice of initiation of the scoping process; request for comments on scope of EIS, and notice of public scoping meetings.

SUMMARY: On December 14, 2023, Green Eagle Railroad, LLC (GER), a subsidiary of Puerto Verde Holdings (PVH), filed a petition with the Surface Transportation Board (Board) for authority to construct and operate approximately 1.3 miles of new common carrier rail line (the Line) in Maverick County, Texas. The Line would extend from the United States/Mexico border to the existing Union Pacific Railroad (UP) connection at approximate UP milepost 31. The Line would be part of a larger project proposed by PVH, the Puerto Verde Global Trade Bridge (PVGTB Project), consisting of a new trade corridor for freight rail and commercial motor vehicles between Piedras Negras, Coahuila, Mexico, and Eagle Pass, Texas, United States. The Board's Office of Environmental Analysis (OEA) determined that the construction and operation of the Line has the potential to result in significant environmental impacts; therefore, the preparation of an EIS is appropriate pursuant to the National Environmental Policy Act (NEPA). In addition to the Line, the PVGTB Project in the United States includes an approximately 1.3-mile roadway and other infrastructure as described below. Only the Line requires licensing authority from the Board. The Line and the roadway would cross the Rio Grande River via two new bridges. Separately from the Board's final decision on GER's petition, the proposed bridges would require permits from the U.S. Coast Guard (USCG) and the U.S. Army Corps of Engineers (USACE). USCG will participate as a Cooperating Agency in the EIS process.

DATES: Comments on the scope of the EIS are due by April 29, 2024. In addition to receiving written comments on the scope of the EIS, OEA will host three public scoping meetings: two in-person public meetings on April 16, 2024, and a virtual public meeting on April 23, 2024. See below for additional details.

ADDRESSES: Interested parties are encouraged to file scoping comments electronically through the Board's website at www.stb.gov by clicking on the “File an Environmental Comment” link. Scoping comments submitted by mail should be addressed to: Andrea Poole, Surface Transportation Board, c/o VHB, Attention: Environmental Filing, Docket No. FD 36652, 1001 G Street NW, Suite 1125, Washington, DC 20001. Please refer to Docket No. FD 36652 in all correspondence, including E-filings, addressed to the Board.

FOR FURTHER INFORMATION CONTACT: Andrea Poole, Office of Environmental Analysis, Surface Transportation Board, c/o VHB, 1001 G Street NW, Suite 1125, Washington, DC 20001; send an email to contact@greeneaglerreis.com; or call either (202) 493-0624 or (888) 319-2337. If you require an accommodation under the Americans with Disabilities Act in order to submit a comment, please call (202) 245-0245. For information about the environmental review process for the Line and the EIS, you may visit the Board-sponsored Project website at www.greeneaglerreis.com or the Board's website at www.stb.gov.

SUPPLEMENTARY INFORMATION:

Purpose and Need for the Proposed Action

Board authority is required for the construction and operation of a new common carrier railroad line such as this (49 U.S.C. 10901; 49 U.S.C. 10502). The proposed federal action here is the Board's decision to authorize with appropriate conditions or to deny GER's request for authority to construct and operate the Line. The Line is not a federal government-proposed or sponsored project. Thus, the project's purpose and need should be informed by both the private applicant's goals and the Board's enabling statute—the Interstate Commerce Act as amended by the ICC Termination Act, Public Law 104-188, 109 Stat. 803 (1996).

GER's purpose for constructing and operating the Line is to develop an economically viable solution to meet the need for border infrastructure improvements at Eagle Pass that increases safety and facilitates binational trade between the United States and Mexico. According to GER, the Line would resolve rail and truck congestion, reduce cross border wait times and route rail traffic around the urban center of Eagle Pass.

Proposed Action

The Line would be a secure, double-tracked rail corridor with no roadway/rail at-grade crossings extending from the interchange point with UP at approximate UP milepost 31 on the Eagle Pass Subdivision near UP's Clark's Park yard for approximately 1.3 miles southwest to the United States/Mexico border. The Line would cross the Rio Grande River on a newly constructed bridge. The Line would be fully fenced, monitored, and patrolled by security personnel. In addition to the Line, which requires Board authority, the PVGTB Project would include a new commercial motor vehicle roadway that would cross the Rio Grande on a new bridge; a control tower; and inspection facilities for both the Line and the roadway. U.S. Customs and Border Protection (CBP) would operate the inspection facilities. PVH would either lease the facilities to CBP; transfer ownership of the facilities to the General Services Administration (GSA); or operate the inspection facilities as a privately owned Central Examination Station as outlined in 19 CFR part 118. A variety of commodities would move to and from Mexico over the Line and roadway. Trains operating on the Line would consist of approximately 150 cars with two locomotives on the front end and one on the rear end, for an approximate train length of 9,300 feet. Parts of the PVGTB Project other than the Line are outside the jurisdiction of the Board but will be considered as appropriate when evaluating environmental impacts of the Line in the EIS.

Alternatives

The preliminary alternatives being considered by OEA include authorizing the Line (Proposed Action) and the No-Action alternative. OEA reviewed alternative routes for the Line that GER had evaluated. Compared to the Proposed Action, these routes appear to raise substantial operational feasibility issues and would have greater environmental impacts than the Proposed Action, including a greater number of residences and structures displaced, more stream crossings, potential for several roadway/rail at-grade road crossings, and impacts to a park. Therefore, OEA intends to analyze only the Proposed Action and the No-Action alternative in the EIS. OEA welcomes oral and written comments on alternatives during scoping.

EIS and Board Process

The first stage of the EIS process is scoping. Scoping is an open process for determining the range of issues that should be examined and assessed in the EIS. Following scoping, OEA will prepare a Draft EIS that analyzes the construction and operation of the Line, including those issues raised during the scoping period, as appropriate. The Draft EIS will identify and analyze reasonable alternatives and set forth OEA's preliminary recommendations for environmental mitigation measures. The Draft EIS will be made available for public and agency review and comment for 45 days. OEA will then prepare and issue a Final EIS that addresses the substantive comments on the Draft EIS and sets forth OEA's final recommended environmental mitigation. The Board will consider the Draft EIS, the Final EIS, public comments, and any final environmental mitigation proposed by OEA, as well as the transportation merits, in reaching its decision on GER's request for authority to construct and operate the Line.

The scope of the issues that will be analyzed in the Draft EIS may include potential impacts related to:

• Transportation

• Air quality and climate change

• Noise and vibration

• Biological resources

• Water resources

• Visual resources

• Cultural resources

• Land use

• Geology and soils

• Energy resources

• Socioeconomics

• Environmental justice

• Cumulative impacts

• Transboundary impacts, as appropriate

Anticipated Permits and Other Authorizations

Based on information provided by GER and PVH and through OEA's ongoing discussions with federal and state agencies, OEA anticipates the following permits and authorizations would be required to construct and operate the Line and the PVGTB Project:

• Clean Water Action section 401 certification and section 402 and 404 permits

• Rivers and Harbors Act section 9 and 10 permits

• Endangered Species Act section 7 compliance

• National Historic Preservation Act section 106 compliance

• International Boundary and Water Commission authorization for work in the bed and bank of the international stretch of the Rio Grande

• Presidential Permit

• Texas General Land Office (GLO) easement authorization for the bed of the Rio Grande to the international boundary line

• Maverick County development permits, including a floodplain development permit

Schedule for the Decision-Making Process

Following issuance of the NOI, OEA will coordinate with USCG to develop the Draft EIS. Formal consultation under the Endangered Species Act (16 U.S.C. 1531-1544), if required, and compliance with Section 106 of the National Historic Preservation Act (54 U.S.C. 306108), may affect some of the anticipated timeframes. A preliminary schedule for this proceeding is set forth below:

• Scoping: Second Quarter 2024

• Draft EIS and Public and Agency Comment Period: Second Quarter 2025

• Final EIS: Fourth Quarter 2025

• Board's final decision and all required permits from other agencies: Prior to construction

Request for Comments

In addition to announcing that the Board will prepare an EIS for this proposed action, through this NOI, OEA is soliciting written comments on the scope of the EIS, identification of potential alternatives, and information and analyses relevant to the EIS. As part of the scoping process, OEA will hold public meetings to gather input from the public (see dates and locations below). After the close of the scoping comment period on April 29, 2024, OEA will review and address all comments as part of the environmental review process.

Scoping Meeting Dates: OEA will hold three public scoping meetings on the following dates (times in Central Standard Time).

• Tuesday, April 16, 2024, 11:30 a.m. to 1:30 p.m. in person at the Eagle Pass International Center for Trade, 3295 Bob Rogers Drive, Eagle Pass, TX 78852

• Tuesday, April 16, 2024, 6 to 8 p.m. in person at the same location

• Tuesday, April 23, 2024, 6 to 8 p.m. online (for information on how to access the online meeting, visit www.greeneaglerreis.com).

The public meetings will consist of an open house session followed by a public comment session. At the public comment session, OEA will give a brief presentation and then members of the public will have the opportunity to speak. Each participant will be given three minutes in which to provide comments. Oral comments will be recorded. Persons wishing to make an oral comment are encouraged, but not required, to pre-register. To pre-register or for more information on how to attend the public scoping meetings, please visit the public involvement page on the Board-sponsored Project website (www.greeneaglerreis.com). OEA will consider all comments equally regardless of how the comments are received. It is not necessary to attend a public scoping meeting to provide scoping comments. OEA will be accepting comments through the scoping comment period, which ends on April 29, 2024.

Submitting Comments: Interested parties are encouraged to file their scoping comments electronically through the Board's website at www.stb.gov by clicking on the “File an Environmental Comment” link. Please refer to Docket No. FD 36652 in all correspondence, including E-filings, addressed to the Board. Scoping comments may also be submitted by mail to: Andrea Poole, Surface Transportation Board, c/o VHB, Attention: Environmental Filing, Docket No. FD 36652, 1001 G Street NW, Suite 1125, Washington, DC 20001. All comments received will become part of the public record and will be available on the Board's website.

By the Board, Danielle Gosselin, Director, Office of Environmental Analysis.
Eden Besera,
Clearance Clerk.

[FR Doc. 2024-06688 Filed 3-28-24; 8:45 am]

BILLING CODE 4915-01-P